ADMINISTRATIVE CONFERENCE OF THE UNITED STATES

Notice of Public Meeting of the Assembly of the Administrative Conference of the United States

AGENCY: Administrative Conference of the United States.

ACTION: Notice.

SUMMARY: Pursuant to the Federal Advisory Committee Act, the Assembly of the Administrative Conference of the United States will hold a meeting to consider two proposed recommendations and to conduct other business. This meeting will be open to the public.

DATES: The meeting will take place on Friday, June 16, 2017, 10:00 a.m. to 2:00 p.m. The meeting may adjourn early if all business is finished.

ADDRESSES: The meeting will be held at the Constitution Center, 400 7th Street, SW., Washington, DC 20024.

FOR FURTHER INFORMATION CONTACT: Shawne McGibbon, General Counsel (Designated Federal Officer), Administrative Conference of the United States, Suite 706 South, 1120 20th Street NW., Washington, DC 20036; Telephone 202-480-2088; email smcgibbon@acus.gov.

SUPPLEMENTARY INFORMATION: The Administrative Conference of the United States makes recommendations to federal agencies, the President, Congress, and the Judicial Conference of the United States regarding the improvement of administrative procedures (5 U.S.C. 594). The membership of the Conference, when meeting in plenary session, constitutes the Assembly of the Conference (5 U.S.C. 595).

Agenda: The Assembly will consider two proposed recommendations as described below:

Adjudication Materials on Agency Web sites. This proposed recommendation provides guidance regarding the online dissemination of administrative adjudication materials. It offers best practices and factors for agencies to consider as they seek to increase the accessibility of adjudication materials on their Web sites and maintain comprehensive, representative online collections of adjudication materials, consistent with the transparency objectives and privacy considerations of the Freedom of Information Act and other relevant laws and directives.

Negotiated Rulemaking. This proposed recommendation offers best practices to agencies for choosing the most appropriate of several methods—among them negotiated rulemaking—to engage the public in agency rulemakings. It also offers best practices to agencies that choose negotiated rulemaking on how to structure their processes to enhance the probability of success.

Additional information about the proposed recommendations and the order of the agenda, as well as other materials related to the meeting, can be found at the 67th Plenary Session page on the Conference's Web site: https://www.acus.gov/meetings-and-events/plenary-meeting/67th-plenary-session.

Public Participation: The Conference welcomes the attendance of the public at the meeting, subject to space limitations, and will make every effort to accommodate persons with disabilities or special needs. Members of the public who wish to attend in person are asked to RSVP online at the 67th Plenary Session Web page shown above, no later than two days before the meeting, in order to facilitate entry. Members of the public who attend the meeting may be permitted to speak only with the consent of the Chairman and the unanimous approval of the members of the Assembly. If you need special accommodations due to disability, please inform the Designated Federal Officer noted above at least 7 days in advance of the meeting. The public may also view the meeting through a live webcast, which will be available at: https://livestream.com/ACUS/67thPlenary.

Written Comments: Persons who wish to comment on any of the proposed recommendations may do so by submitting a written statement either online by clicking “Submit a Comment” on the 67th Plenary Session Web page shown above or by mail addressed to: June 2017 Plenary Session Comments, Administrative Conference of the United States, Suite 706 South, 1120 20th Street NW., Washington, DC 20036. Written submissions must be received no later than 10:00 a.m. (EDT), Monday, June 12, to assure consideration by the Assembly.

Dated: May 24, 2017.
David M. Pritzker,
Deputy General Counsel.

[FR Doc. 2017-11137 Filed 5-30-17; 8:45 am]

BILLING CODE 6110-01-P